DEPARTMENT OF LABOR

Employment and Training Administration

[TA-W-71,353]

Albion Associates, Inc., High Point, NC; Notice of Termination of Investigation

Pursuant to Section 223 of the Trade Act of 1974, as amended, an investigation was initiated on June 23, 2009 in response to a worker petition filed on behalf of workers of Albion Associates, Inc., High Point, North Carolina.

The petitioning group of workers is covered by an earlier petition TA-W-71,121 filed on June 10, 2009 that is the subject of an ongoing investigation for which a determination has not yet been issued. Consequently, further investigation in this case would serve no purpose, and the investigation under this petition has been terminated.

Signed at Washington, DC, this 17th day of July 2009.
Elliott S. Kushner,
Certifying Officer, Division of Trade Adjustment Assistance.

[FR Doc. E9-18175 Filed 7-29-09; 8:45 am]

BILLING CODE 4510-FN-P